DEPARTMENT OF COMMERCE

National Oceanic and Atmospheric Administration

50 CFR Part 622

[Docket No. 250606-0095; RTID 0648-XF107]

Fisheries of the South Atlantic; 2025 Commercial Closure of Red Snapper in the South Atlantic

AGENCY: National Marine Fisheries Service (NMFS), National Oceanic and Atmospheric Administration (NOAA), Commerce.

ACTION: Temporary rule; closure.

SUMMARY: NMFS implements an accountability measure for red snapper in the exclusive economic zone (EEZ) of the South Atlantic. NMFS projects that commercial landings of red snapper will reach the commercial annual catch limit (ACL) for the 2025 fishing year. Therefore, NMFS is closing the commercial sector for red snapper in the South Atlantic EEZ. This closure is necessary to protect the red snapper resource.

DATES: This temporary rule is effective from September 24, 2025, through December 31, 2025.

FOR FURTHER INFORMATION CONTACT: Mary Vara, NMFS Southeast Regional Office, telephone: 727-824-5305, email: mary.vara@noaa.gov.

SUPPLEMENTARY INFORMATION: The snapper-grouper fishery of the South Atlantic includes red snapper and is managed under the Fishery Management Plan for the Snapper-Grouper Fishery of the South Atlantic Region (FMP). The FMP was prepared by the South Atlantic Fishery Management Council and NMFS, and was approved and is implemented by NMFS on behalf of the Secretary of Commerce, under the authority of the Magnuson-Stevens Fishery Conservation and Management Act (Magnuson-Stevens Act) by regulations at 50 CFR part 622.

On June 11, 2025, NMFS published a final rule in the Federal Register to end overfishing of red snapper in Federal waters of the South Atlantic (90 FR 24527). Regulations at 50 CFR 622.193(y)(1) specify the commercial ACL and accountability measure for red snapper in the South Atlantic for the 2025 fishing year. The commercial ACL is 102,951 pounds (lb) or 46,698 kilograms (kg) in round weight. NMFS is required to close the commercial sector for red snapper when NMFS projects its landings will reach or have reached the commercial ACL. NMFS has determined that the commercial ACL for South Atlantic red snapper will be reached on September 24, 2025. Accordingly, the commercial sector for South Atlantic red snapper is closed from September 24, 2025 through the end of 2025. Unless NMFS specifies otherwise, the commercial season for red snapper in the 2026 fishing year will begin on the second Monday in July [50 CFR 622.183(b)(5)(i)].

The operator of a vessel with a valid commercial vessel permit for South Atlantic snapper-grouper with red snapper on board must have landed and bartered, traded, or sold such red snapper prior to September 24, 2025. Because the harvest of red snapper by the recreational sector is also closed for the rest of 2025 (90 FR 24527, June 11, 2025), during this commercial closure, all harvest and possession of red snapper in or from the South Atlantic EEZ is prohibited through the end of 2025.

Also during the commercial closure for South Atlantic red snapper, all sale or purchase of red snapper is prohibited. This prohibition on the harvest, possession, sale, or purchase applies in the South Atlantic on a vessel issued a Federal commercial or charter vessel/headboat permit for South Atlantic snapper-grouper, regardless if such fish were harvested or possessed in state or Federal waters [50 CFR 622.181(c)(2) and 622.193(y)(1)].

Classification

NMFS issues this action pursuant to section 305(d) of the Magnuson-Stevens Act. This action is required by 50 CFR 622.193(y)(1), which was issued pursuant to section 304(c)(7) of the Magnuson-Stevens Act, and is exempt from review under Executive Order 12866.

Pursuant to 5 U.S.C. 553(b)(B), there is good cause to waive prior notice and an opportunity for public comment on this action, as notice and comment are unnecessary and contrary to the public interest. Such procedures are unnecessary because the rule that established the accountability measure for red snapper has already been subject to notice and comment, and all that remains is to notify the public of the closure. Such procedures are contrary to the public interest because of the need to immediately implement this action to protect red snapper, because the capacity of the fishing fleet allows for rapid harvest of the commercial ACL. Prior notice and opportunity for public comment would require time and could potentially result in a harvest well in excess of the established commercial ACL.

For the reasons just stated, there is also good cause to waive the 30-day delay in the effectiveness of this action under 5 U.S.C. 553(d)(3).

Authority: 16 U.S.C. 1801 et seq.

Dated: September 19, 2025.
Kelly Denit,
Director, Office of Sustainable Fisheries, National Marine Fisheries Service.

[FR Doc. 2025-18406 Filed 9-19-25; 4:15 pm]

BILLING CODE 3510-22-P